DEPARTMENT OF THE TREASURY

Office of Foreign Assets Control

Notice of OFAC Sanctions Action

AGENCY: Office of Foreign Assets Control, Treasury.

ACTION: Notice.

SUMMARY: The U.S. Department of the Treasury's Office of Foreign Assets Control (OFAC) is publishing the identifying information of one individual who was added to OFAC's list of Specially Designated Nationals and Blocked Persons (SDN List).

DATES: See SUPPLEMENTARY INFORMATION section for applicable date(s).

FOR FURTHER INFORMATION CONTACT: OFAC: Associate Director for Global Targeting, tel.: 202-622-2420; Assistant Director for Licensing, tel.: 202-622-2480; Assistant Director for Regulatory Affairs, tel.: 202-622-4855; or Assistant Director for Sanctions Compliance & Evaluation, tel.: 202-622-2490.

SUPPLEMENTARY INFORMATION:

Electronic Availability

The Specially Designated Nationals and Blocked Persons List and additional information concerning OFAC sanctions programs are available on OFAC's website (www.treasury.gov/ofac).

Notice of OFAC Action(s)

On September 30, 2020, OFAC determined that the property and interests in property subject to U.S. jurisdiction of the following individual are blocked under the relevant sanctions authority listed below.

Individual:

1. RODRIGUEZ LOPEZ-CALLEJA, Luis Alberto (Latin: RODRÍGUEZ LÓPEZ-CALLEJA, Luis Alberto) (a.k.a. RODRIGUEZ LOPEZ-CALLEJAS, Luis Alberto (Latin: RODRÍGUEZ LÓPEZ-CALLEJAS, Luis Alberto)), Calle 49 A Nro. 3626, Playa, Havana, Cuba; DOB 19 Jan 1960; POB Cuba; nationality Cuba; Gender Male; Passport A009956 (Cuba) issued 23 Jan 2017 expires 23 Jan 2029 (individual) [CUBA].

Identified pursuant to the Cuban Assets Control Regulations, 31 CFR part 515 (CACR), as meeting the definition of a Cuban national, a person whose property and interests in property are blocked pursuant to CACR.

Dated: September 30, 2020.
Andrea Gacki,
Director, Office of Foreign Assets Control, U.S. Department of the Treasury.

[FR Doc. 2020-21933 Filed 10-2-20; 8:45 am]

BILLING CODE 4810-AL-P